DEPARTMENT OF TRANSPORTATION

Federal Aviation Administration

14 CFR Part 39

[Docket No. FAA-2007-0248 Directorate Identifier 2007-CE-084-AD; Amendment 39-15500; AD 2008-09-19]

RIN 2120-AA64

Airworthiness Directives; De Havilland Support Limited Model Beagle B.121 Series 1, 2, and 3 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

The Type Certificate Holder (TCH) has received several reports of failed Rudder torque tube assemblies. The torque tube assemblies are subject to repetitive inspection in accordance with Airworthiness Directive 2060 PRE 80. The recent failures occurred in service after the inspections required by AD 2060 PRE 80 had been performed. In the event of such failures, loss of directional control through both the Rudder and Nosewheel Steering may occur. The TCH has also received reports of loose rivets attaching the inboard Anchor Assembly to the Starboard Torque Tube.

We are issuing this AD to require actions to correct the unsafe condition on these products.

DATES: This AD becomes effective June 6, 2008.

On June 6, 2008, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Discussion

We issued a notice of proposed rulemaking (NPRM) to amend 14 CFR part 39 to include an AD that would apply to the specified products. That NPRM was published in the Federal Register on November 27, 2007 (72 FR 66087). That NPRM proposed to correct an unsafe condition for the specified products. The MCAI states:

The Type Certificate Holder (TCH) has received several reports of failed Rudder torque tube assemblies. The torque tube assemblies are subject to repetitive inspection in accordance with Airworthiness Directive 2060 PRE 80. The recent failures occurred in service after the inspections required by AD 2060 PRE 80 had been performed. In the event of such failures, loss of directional control through both the Rudder and Nosewheel Steering may occur. The TCH has also received reports of loose rivets attaching the inboard Anchor Assembly to the Starboard Torque Tube.

The MCAI requires the inspection of the rudder torque tube assemblies and hubs for cracking and loose rivets with conditional correction or replacement following De Havilland Support Limited Service Bulletin B121/65, Issue 2, dated August 10, 2005.

Comments

We gave the public the opportunity to participate in developing this AD. We considered the comment received.

Comment Issue: Reference the Correct TC Holder in the AD

Trevor A. Wood requests that the FAA reference De Havilland Support Ltd. (DHSL) in the proposed AD instead of British Aerospace Aircraft Group, Scottish Division. The commenter points out that DHSL is the organization that has published the service information, and he believes that the current type certificate data sheet for the Beagle B.121 series 1, 2, and 3 airplanes incorrectly references the type certificate holder. The commenter points out that the British Aerospace Aircraft Group, Scottish Division, relinquished responsibility for these airplanes in November 2002 when the type certificate was transferred to DHSL.

The FAA does not agree that the NPRM incorrectly referenced British Aerospace Aircraft Group, Scottish Division, as the type certificate holder. We cannot change the type certificate data sheet without approval and request from the State of Design, in this case the United Kingdom Civil Aviation Authority (CAA) and the European Aviation Safety Agency (EASA). However, since issuance of the NPRM, the FAA has received such approval and request. We have revised the type certificate data sheet (A22EU, Revision 4, dated March 20, 2008) to reference the type certificate holder of the Beagle B.121 series 1, 2, and 3 airplanes as De Havilland Support Limited. We have made the appropriate changes in the final rule AD action to reflect this.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

Based on the service information, we estimate that this AD will affect 1 product of U.S. registry. We also estimate that it will take about 1 work-hour per product to comply with basic requirements of this AD. The average labor rate is $80 per work-hour.

Based on these figures, we estimate the cost of this AD to the U.S. operators to be $80, or $80 per product.

In addition, we estimate that any necessary follow-on actions would take about 12 work-hours and require parts costing $10,000 for a cost of $10,960 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-09-19 De Havilland Support Limited: Amendment 39-15500; Docket No. FAA-2007-0248; Directorate Identifier 2007-CE-084-AD.

Effective Date

(a) This airworthiness directive (AD) becomes effective June 6, 2008.

Affected ADs

(b) None.

Applicability

(c) This AD applies to Beagle B.121 series 1, 2, and 3 airplanes, all serial numbers, certificated in any category.

Subject

(d) Air Transport Association of America (ATA) Code 27: Flight Controls.

Reason

(e) The mandatory continuing airworthiness information (MCAI) states:

The Type Certificate Holder (TCH) has received several reports of failed Rudder torque tube assemblies. The torque tube assemblies are subject to repetitive inspection in accordance with Airworthiness Directive 2060 PRE 80. The recent failures occurred in service after the inspections required by AD 2060 PRE 80 had been performed. In the event of such failures, loss of directional control through both the Rudder and Nosewheel Steering may occur. The TCH has also received reports of loose rivets attaching the inboard Anchor Assembly to the Starboard Torque Tube.

The MCAI requires the inspection of the rudder torque tube assemblies and hubs for cracking and loose rivets with conditional correction or replacement in accordance with De Havilland Support Limited Service Bulletin B121/65, Issue 2, dated August 10, 2005.

Actions and Compliance

(f) Unless already done, do the following actions:

(1) Within 100 hours time-in-service (TIS) after June 6, 2008 (the effective date of this AD) and thereafter at intervals not to exceed 100 hours TIS, inspect the rudder torque tube assemblies following De Havilland Support Limited Service Bulletin B121/65, Issue 2, dated August 10, 2005.

(2) Before further flight, replace any cracked rudder torque tube assemblies and correct any loose rivets in the rudder torque tube assemblies that are found in the inspections required in paragraph (f)(1) of this AD, following De Havilland Support Limited Service Bulletin B121/65, Issue 2, dated August 10, 2005.

(3) After June 6, 2008 (the effective date of this AD), used rudder torque assemblies held as spares for De Havilland Support Limited Model Beagle B.121 series 1, 2, and 3 airplanes must be inspected following De Havilland Support Limited Service Bulletin B121/65, Issue 2, dated August 10, 2005, and found free of cracks prior to installation.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI United Kingdom Civil Aviation Authority AD No: G-2005-0030, dated October 12, 2005; and De Havilland Support Limited Service Bulletin B121/65, Issue 2, dated August 10, 2005, for related information.

Material Incorporated by Reference

(i) You must use De Havilland Support Limited Service Bulletin B121/65, Issue 2, dated August 10, 2005, to do the actions required by this AD, unless the AD specifies otherwise.

(1) The Director of the Federal Register approved the incorporation by reference of this service information under 5 U.S.C. 552(a) and 1 CFR part 51.

(2) For service information identified in this AD, contact De Havilland Support Limited, Building 123, Duxford Airfield, Cambridgeshire, CB2 4QR, England, telephone: +44 0 1223 830090; fax: +44 0 1223 830085; e-mail: info@dhsupport.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on April 24, 2008.
James E. Jackson,
Acting Manager, Small Airplane Directorate, Aircraft Certification Service.

[FR Doc. E8-9588 Filed 5-1-08; 8:45 am]

BILLING CODE 4910-13-P